DEPARTMENT OF STATE

[Public Notice: 6531]

30-Day Notice of Proposed Information Collection: Department of State Acquisition Regulation (DOSAR), OMB Control Number 1405-0050

ACTION: Notice of request for public comment and submission to OMB of proposed collection of information.

SUMMARY: The Department of State has submitted the following information collection request to the Office of Management and Budget (OMB) for approval in accordance with the Paperwork Reduction Act of 1995.

• Title of Information Collection: Department of State Acquisition Regulation (DOSAR).

• OMB Control Number: 1405-0050.

• Type of Request: Extension of a Currently Approved Collection.

• Originating Office: Bureau of Administration, Office of the Procurement Executive (A/OPE).

• Form Number: N/A.

• Respondents: Any business, other for-profit, individual, not-for-profit, or household organization wishing to receive Department of State contracts.

• Estimated Number of Respondents: 3,166.

• Estimated Number of Responses: 3,166.

• Average Hours per Response: Varies.

• Total Estimated Burden: 275,970.

• Frequency: On occasion.

• Obligation to Respond: Voluntary.

DATE(S): Submit comments to the Office of Management and Budget (OMB) for up to 30 days from February 24, 2009.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Barbara Latvanas, Procurement Analyst, Office of the Procurement Executive, Department of State, Washington, DC 20522, who may be reached on 703-516-1755 or at LatvanasBA@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

This information collection covers pre-award and post-award requirements of the DOSAR. During the pre-award phase, information is collected to determine which bids or proposals offer the best value to the U.S. Government. Post-award actions include monitoring the contractor's performance; issuing modifications to contracts; dealing with unsatisfactory performance; issuing payments to the contractor; and closing out the contract upon its completion.

Methodology

Information is collected from prospective offerors to evaluate their proposals. The responses provided by the public are part of the offeror's proposals in response to Department solicitations. This information may be submitted electronically (through fax or e-mail), or may require a paper submission, depending upon complexity. After contract award, contractors are required to submit information, on an as-needed basis, and relate to the occurrence of specific circumstances.

Dated: February 12, 2009.
Corey M. Rindner,
Procurement Executive, Bureau of Administration, Department of State.

[FR Doc. E9-3807 Filed 2-23-09; 8:45 am]

BILLING CODE 4710-24-P